GENERAL SERVICES ADMINISTRATION

[OMB Control No. 3090-0300; Docket No. 2014-0001; Sequence 5]

Information Collection; General Services Administration Acquisition Regulation; Implementation of Information Technology Security Provision; Correction

AGENCY: General Services Administration (GSA).

ACTION: Notice; Correction.

SUMMARY: GSA is issuing a correction to Information Collection 3090-0300; Implementation of Information Technology Security Provision, which was published in the Federal Register on September 12, 2014.

DATES: Effective: September 24, 2014.

FOR FURTHER INFORMATION CONTACT: Ms. Dana Munson, Procurement Analyst, Office of Acquisition Policy, at (202) 357-9652 or via email at dana.munson@gsa.gov. Please cite OMB Control No: 3090-0300; Correction.

SUPPLEMENTARY INFORMATION: GSA, published a document in the Federal Register at 79 FR 54722, on September 12, 2014, inadvertently, GSAR clause 552.237-71 is incorrectly stated.

Correction

In rule FR Doc. 2014-21706 published in the Federal Register at 79 FR 54723, September 12, 2014 make the following correction:

On page 54723, in the first column, under the heading “A. Purpose”, correct “Clause 552.237-71” with “Clause 552.239-71”

Dated: September 18, 2014.
Jeffrey Koses,
Senior Procurement Executive, Office of Acquisition Policy, Office of Government-wide Policy.

[FR Doc. 2014-22737 Filed 9-23-14; 8:45 am]

BILLING CODE 6820-61-P